DEPARTMENT OF DEFENSE

Department of the Air Force

Notice of Availability for Non-Exclusive, Exclusive or Partially Exclusive Licensing of Invention

SUMMARY: Pursuant to the provisions of 37 CFR 404.4, the Department of the Air Force announces the availability for licensing of the invention described in Provisional Patent Application no. 61/123,566, entitled Object with Durably Bonded Lubricant Layer or Other Functional Coating, filed on 1 April 2008, in the USPTO.

FOR FURTHER INFORMATION: The response time to this Notice runs 15 days from the date of publication hereof in the Federal Register. Written response should be sent to: the Air Force Material Command Law Office, AFMC LO/JAZ, 2240 B. Street, Bldg.11, Wright-Patterson AFB 45433-7109, attention, Thomas C. Stover. Telephone (937) 255-2838; fax (937) 255-3733.

Bao-Anh Trinh,
Air Force Federal Register Liaison Officer.

[FR Doc. E8-24135 Filed 10-9-08; 8:45 am]

BILLING CODE 5001-05-P